DEPARTMENT OF AGRICULTURE

Submission for OMB Review; Comment Request

March 23, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Foreign Agricultural Service

Title: Dairy Tariff-Rate Import Quota Licensing Program.

OMB Control Number: 0551-0001.

Summary of Collection: The Dairy Tariff-Rate Import Quota regulation (the Regulation) (7 CFR part 6) governs the administration of the import licensing system applicable to most dairy products subject to tariff-rate quotas (TRQs). The TRQs were established in the Harmonized Tariff Schedule of the United States as a result of certain provisions in the Uruguay Round Agreement Act (Pub. L. 103-465) that converted existing absolute quotas to TRQs. Imports of nearly all cheese made from cow's milk (except soft-ripened cheese such as Brie) and certain non-cheese dairy products (including butter and dried milk) are subject to TRQs and the Regulation. Licenses are issued each quota year to eligible applicants and are valid for 12 months (January 1 through December 31). Importers without licenses may enter dairy articles only at the over-quota tariff-rates. The Foreign Agricultural Service (FAS) will collect information using several forms.

Need and Use of the Information: FAS will use the information to assure that the intent of the legislation is correctly administered and to determine eligibility to obtain benefits under the Regulation. If the information were collected less frequently, FSA would be unable to issue licenses on an annual basis in compliance with the Regulation.

Description of Respondents: Business or other-for-profit; Individuals or households.

Number of Respondents: 700.

Frequency of Responses: Recordkeeping, Reporting: Annually.

Total Burden Hours: 459.

Ruth Brown,
Departmental Information Collection Clearance Officer.

[FR Doc. 2010-6828 Filed 3-26-10; 8:45 am]

BILLING CODE 3410-10-P